ENVIRONMENTAL PROTECTION AGENCY

[EPA-OEJECR-2024-0479; FRL—12368-01-OMS]

Agency Information Collection Activities; Submission to the Office of Management and Budget for Review and Approval; Comment Request; Environmental Justice Thriving Communities Grantmaking Program: Applications for Subawards—November Launch

AGENCY: Environmental Protection Agency (EPA).

ACTION: Notice.

SUMMARY: The Environmental Protection Agency (EPA) has submitted an information collection request (ICR), Environmental Justice Thriving Communities Grantmaking Program: Applications for Subawards—November Launch (EPA ICR Number 7790.01, OMB Control Number 2035-NEW) to the Office of Management and Budget (OMB) for review and approval in accordance with the Paperwork Reduction Act. This is a request for emergency clearance of a new collection. A two-week public comment period has been initiated via a notice in the Federal Register.

DATES: Comments may be submitted on or before November 12, 2024.

ADDRESSES: Submit your comments, referencing Docket ID Number EPA-OEJECR-2024-0479 or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI) or other information whose disclosure is restricted by statute.

FOR FURTHER INFORMATION CONTACT: Aarti Iyer, Office of the Chief Financial Officer, Mail Code 2710A, Environmental Protection Agency, 1200 Pennsylvania Ave. NW, Washington, DC 20460; telephone number: 202-564-0214; email address: iyer.aarti@epa.gov.

SUPPLEMENTARY INFORMATION: This is a request for approval of a new collection. An agency may not conduct or sponsor and a person is not required to respond to a collection of information unless it displays a currently valid OMB control number.

This notice allows for a 14 day public comment period. Supporting documents, which explain in detail the information that the EPA will be collecting, are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: To meet the goals and objectives that demonstrate the U.S. Environmental Protection Agency (EPA's) and the Administration's commitment to achieving environmental justice and embedding environmental justice into Agency programs, the Environmental Justice Thriving Communities Grantmaking Program provides about $600 million in 11 cooperative agreements funding to “Grantmakers” who will function as pass-through entities for the Environmental Justice Thriving Communities Subgrants (2 CFR parts 200 and 1500). Each Grantmaker will collaborate with EPA to design and build their own processes to receive and evaluate applications to fund the initial development of community-led environmental justice projects. With this Information Collection Request (ICR), EPA seeks emergency clearance by October 31, 2024 for six Grantmakers to solicit applications for their first round of subgrants to be launched in November 2024.

This is the third of three related Grantmaker ICRs submitted on an emergency basis (see also 2090-0035 and 2090-0036). EPA cannot reasonably comply with the normal clearance procedures because subaward programs must be launched within 3 months, which does not allow sufficient time to obtain PRA clearance using the standard ICR process. Collection of the information requested under this emergency clearance (i.e., applications) is essential for the Grantmakers to have a mechanism for selecting and distributing subaward grants to fund environmental justice projects in underserved communities, thus fulfilling the central objective of the program.

This emergency clearance will cover the first round of subaward applications solicited by six Grantmakers in November 2024. Subsequent rounds of applications will be authorized via a Standard ICR package for the Grantmaking Program that will be submitted for review via the standard ICR approval process.

Form Numbers: None.

Respondents/affected entities: Respondents will include entities who are eligible to receive subawards, including community based nonprofit organizations, Puerto Rico, U.S. Territories and Freely Associated States, Native American organizations, local governments, and institutions of higher education.

Respondent's obligation to respond: Voluntary.

Estimated number of respondents: 7,496 (total).

Frequency of response: Once.

Total estimated burden: 13,622 hours (total). Burden is defined at 5 CFR 1320.03(b).

Total estimated cost: $897,264.38 (total), which includes $178,057.92 annualized capital or operation & maintenance costs.

Requested approval date: October 31, 2024.

Courtney Kerwin,
Director, Information Engagement Division.

[FR Doc. 2024-24985 Filed 10-25-24; 8:45 am]

BILLING CODE 6560-50-P